DEPARTMENT OF COMMERCE

Foreign-Trade Zones Board

[B-21-2022]

Foreign-Trade Zone (FTZ) 18—San Jose, California, Authorization of Production Activity Epoch International Enterprises, Inc. (Printed Circuit Board Assemblies and Enclosures), Fremont, California

On May 16, 2022, Epoch International Enterprises, Inc., submitted a notification of proposed production activity to the FTZ Board for its facility within Subzone 18M, in Fremont, California.

The notification was processed in accordance with the regulations of the FTZ Board (15 CFR part 400), including notice in the Federal Register inviting public comment (87 FR 32120, May 27, 2022). On September 13, 2022, the applicant was notified of the FTZ Board's decision that no further review of the activity is warranted at this time. The production activity described in the notification was authorized, subject to the FTZ Act and the FTZ Board's regulations, including section 400.14.

Dated: September 13, 2022.
Christopher Kemp,
Acting Executive Secretary.

[FR Doc. 2022-20114 Filed 9-15-22; 8:45 am]

BILLING CODE 3510-DS-P